DEPARTMENT OF ENERGY

Federal Energy Regulatory Commission

[Docket No. RP03-489-000]

Vector Pipeline Company; Notice of Informal Settlement Conference

October 10, 2003.

Take notice that an information settlement conference will be held on October 21 and 22, 2003, at 10 a.m. at the Federal Energy Regulatory Commission, 888 First Street, NE., Washington, DC 20426, for the purpose of exploring the possible settlement in the above-referenced proceeding.

Any party, as defined by 18 CFR 385.102(c), or any participant as defined by 18 CFR 385.102(b), is invited to attend. Persons wishing to become a party must move to intervene and receive intervenor status pursuant to the Commission's regulations (18 CFR 385.214).

For additional information, please contact Thomas Burgess (202-502-6058), e-mail Thomas.Burgess@ferc.gov.

Magalie R. Salas,
Secretary.

[FR Doc. E3-00091 Filed 10-21-03; 8:45 am]

BILLING CODE 6717-01-P